DEPARTMENT OF HOMELAND SECURITY

[Docket No. DHS-2006-0023]

Policy Directorate; Homeland Security Advisory Council

AGENCY: Policy Directorate, Department of Homeland Security.

ACTION: Notice of Partially Closed Federal Advisory Committee Meeting.

SUMMARY: The Homeland Security Advisory Council (HSAC) will hold a meeting for purposes of receiving new taskings and briefings and holding member deliberations. This meeting will be partially closed.

DATES: Monday, June 26, 2006.

ADDRESSES: The open portions of the meeting for the purpose of receiving future taskings and discussion listed above will be held at the St. Regis Hotel, at 923 16th and K Streets, NW., Washington, DC, in the Potomac Room, lower lobby level from 11 a.m. to 1 p.m. The closed portions of the meeting will be held in the Mt. Vernon Room, lower lobby level, and the United States Secret Service Headquarters from 8:30 a.m. to 11 a.m, and then again from 1 p.m. to 4 p.m.

If you desire to submit written comments, they must be submitted by June 19, 2006. Comments must be identified by DHS-2006-0023 and may be submitted by one of the following methods:

• Federal eRulemaking Portal: http://www.regulations.gov. Follow the instructions for submitting comments.

• E-mail: HSAC@dhs.gov. Include docket number in the subject line of the message.

• Fax: (202) 772-9718.

• Mail: Kezia Williams, Homeland Security Advisory Council, Department of Homeland Security, Washington, DC 20528.

Instructions: All submissions received must include the words “Department of Homeland Security” and DHS-2006-0023, the docket number for this action. Comments received will be posted without alteration at http://www.regulations.gov, including any personal information provided.

Docket: For access to the docket to read background documents or comments received by the DHS Homeland Security Advisory Council, go to http://www.regulations.gov.

FOR FURTHER INFORMATION CONTACT: Kezia Williams, Homeland Security Advisory Council, Washington, DC 20528, (202) 205-1433, HSAC@dhs.gov.

SUPPLEMENTARY INFORMATION: At the upcoming meeting, the HSAC will focus on the future of terrorism; threat assessment for the next five years, and creating a common culture within the Department of Homeland Security. The HSAC will also hold deliberations and discussions among HSAC members, including discussions regarding administrative matters.

The closed portion of the meeting will include discussions on building a common culture at the Department as well as on the future of terrorism and how the department should respond and prepare the public. In those discussions various speakers from the Department and outside will discuss the current trends in terrorism as well as how various companies and organizations have created a common culture. Therefore certain trade secrets are likely to be discussed as well as how the Federal government investigates and tracks the patterns of terrorism.

Public Attendance: A limited number of members of the public may register to attend the public session on a first-come, first-served basis per the procedures that follow. Security requires that any member of the public who wishes to attend the public session provide his or her name and date of birth no later than 5 p.m. E.S.T., Monday, June 19, 2006, to Kezia Williams or an Executive Staff Member of the HSAC via e-mail at HSAC@dhs.gov or via phone at (202) 205-1433. Photo identification will be required for entry into the public session, and everyone in attendance must be present and seated by 10:50 a.m.

Information on Services for Individuals with Disabilities: For information on facilities or services for individuals with disabilities, or to request special assistance at the meeting, contact Kezia Williams as soon as possible.

Basis for Closure: In accordance with Section 10(d) of the Federal Advisory Committee Act, Public Law 92-463, as amended (5 U.S.C. App. 1 et seq.), I have determined that portions of this HSAC meeting will be closed. At the closed portions of the meeting the committee will be addressing specific security and infrastructure vulnerabilities, and these discussions are likely to include: trade secrets and commercial or financial information that is privileged or confidential; investigative techniques and procedures; and matters that for which disclosure would likely frustrate significantly the implementation of proposed agency actions. Accordingly, I have determined that these portions of the meeting must be closed as consistent with the provisions of 5 U.S.C. 552b(c)(4), (7)(E), and (9)(B).

Dated: June 5, 2006.
Michael Chertoff,
Secretary.

[FR Doc. 06-5253 Filed 6-6-06; 2:14 pm]

BILLING CODE 4410-10-P